DEPARTMENT OF COMMERCE

National Oceanic and Atmospheric Administration

[I.D. 081100B]

Endangered Species; Permits

AGENCY: National Marine Fisheries Service (NMFS), National Oceanic and Atmospheric Administration (NOAA), Commerce.

ACTION: Receipt of applications for scientific research permits (1261, 1262); issuance of permit 1225.

SUMMARY: Notice is hereby given of the following actions regarding permits for takes of endangered and threatened species for the purposes of scientific research and/or enhancement: NMFS has received a scientific research permit applications from Mr. Vincent A. Mudrak, of U.S. Fish & Wildlife Service (USFWS) (1261), and Dr. Cindy Driscoll, of the Maryland Department of Natural Resources (MDDNR) (1262); NMFS has issued permit 1225 to Mr. Bruce Hecker, of South Carolina Aquarium (1225).

DATES: Comments or requests for a public hearing on any of the new applications or modification requests must be received at the appropriate address or fax number no later than 5:00pm eastern standard time on September 18, 2000.

ADDRESSES: Written comments on any of the new applications or modification requests should be sent to the appropriate office as indicated below. Comments may also be sent via fax to the number indicated for the application or modification request. Comments will not be accepted if submitted via e-mail or the internet. The applications and related documents are available for review in the indicated office, by appointment:

Office of Protected Resources, F/PR3, NMFS, 1315 East-West Highway, Silver Spring, MD 20910-3226 (301-713-1401).

FOR FURTHER INFORMATION CONTACT: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

Endangered Shortnose sturgeon (Acipenser brevirostrum).

Endangered Green turtle (Chelonia mydas), endangered Hawksbill turtle (Eretmochelys imbricata), endangered Kemp's ridley turtle (Lepidochelys kempii), endangered Leatherback turtle (Dermochelys coriacea), threatened Loggerhead turtle (Caretta caretta).

New Applications Received

Application 1261: The applicant requests a five-year permit to maintain captively-bred shortnose sturgeon for scientific research at the Warm Springs Hatchery operated by the US Fish and Wildlife Service. Research Activities include feeding studies, propagation studies and studies identified in the recovery plan for shortnose sturgeon.

Application 1262: The applicant has requested a five-year permit to take 50 loggerhead, 30 Kemp's ridley, 10 leatherback, 5 green and 5 hawksbill turtles from the upper and middle Chesapeake Bay for scientific research purposes. Each turtle would be captured, handled, measured, weighed, tagged, and have biological samples (tissue and blood) collected and then released. Yearly sampling would occur from May to November.

Permits Issued

Notice was published on 12/17/1999 (64 FR 70697) that Mr. Bruce Hecker, of South Carolina Aquarium applied for an enhancement permit (1225). The aquarium proposed to maintain a population of up to eight juvenile shortnose sturgeon in a captive environment for educational purposes. This application meets Recovery Task 2.5 C concerning public education and raising public awareness of sturgeon issues. The aquarium proposes to present the fish in a manner that will enhance the conservation of the species through public education. Permit 1225 was issued on July 25, 2000, authorizing take of listed species. Permit 1225 expires June 30, 2005.

Dated: August 14, 2000.
Wanda Cain,
Chief, Endangered Species Division, Office of Protected Resources, National Marine Fisheries Service.

[FR Doc. 00-20991 Filed 8-16-00; 8:45 am]

BILLING CODE 3510-22-F